DEPARTMENT OF ENERGY

Federal Energy Regulatory Commission

[Project No. 2631-007-MA]

International Paper Company; Notice Establishing Subsequent Licensing Procedural Schedule and a Deadline for Submission of Final Amendments

February 16, 2000.

The license for the Woronoco Hydroelectric Project, FERC Project No. 2631, located on the Westfield River, in Hampden County, Massachusetts, expires on September 1, 2001. An application for a new license has been filed as follows:

Project No. | Applicant | Contact
P-2631-007 | International Paper Company | Ted Lewellyn, International Paper Co., Paper Mill Road, Millers Falls, MA 01349, (413) 659-2337
|  | Michael K. Chapman, International Paper Co., 6400 Poplar Avenue, Memphis, TN 38197, (901) 763-5888
|  | Jon Christensen, Kleinschmidt Associates, 75 Main Street, Pittsfield, MA 04967, (207) 487-3328

The following is an approximate procedural schedule that will be followed in processing the applications:

Date | Action
November 30, 1999 | Commission notifies applicant that its application is deficient, if applicable.
December 15, 1999 | Commission notifies applicant that its application has been accepted, and issues public notice of the accepted application establishing dates for filing motions to intervene and protests.
June 22, 2000 | Commission's deadline for applicant to file final amendment, if any, to its application.
June 22, 2000 | Commission's deadline for applicant to file its response to the Commission's additional information request.
July 7, 2000 | Commission notifies all parties and agencies that the application is ready for environmental analysis.

Upon receipts of all additional information and the information filed in response to the public notice of the acceptance of the applications, the Commission will evaluate the application in accordance with applicable statutory requirements and take appropriate action on the application.

Any questions concerning this notice should be directed to Allan Creamer at (202) 219-0365.

David P. Boergers,
Secretary.

[FR Doc. 00-4186 Filed 2-22-00; 8:45 am]

BILLING CODE 6717-01-M